DEPARTMENT OF COMMERCE

National Oceanic and Atmospheric Administration

Availability of Seats for the Monitor National Marine Sanctuary Advisory Council

AGENCY: Office of National Marine Sanctuaries, National Ocean Service (NOS), National Oceanic and Atmospheric Administration, Department of Commerce (DOC).

ACTION: Notice and request for applications.

SUMMARY: The ONMS is seeking applicants for the following seats on the Monitor National Marine Sanctuary advisory council (council): Citizen-at-Large seat, two (2) Recreational/Commercial Fishing seats, Heritage Tourism seat, and Economic Development seat. Applicants are chosen based upon their particular expertise and experience in relation to the seat for which they are applying; community and professional affiliations; philosophy regarding the protection and management of marine resources; and possibly the length of residence in the area affected by the sanctuary. Applicants who are chosen as members should expect to serve 2-year terms, pursuant to the council's Charter.

DATES: Applications are due by April 29, 2011.

ADDRESSES: Application kits may be obtained from Shannon Rides, 100 Museum Drive, Newport News, VA 23606. Completed applications should be sent to the same address.

FOR FURTHER INFORMATION CONTACT: Shannon Ricles, 100 Museum Drive, Newport News, VA 23606, 757-591-7328, Shannon.ricles@noaa.gov.

SUPPLEMENTARY INFORMATION: Established in 1975 as the Nation's first marine sanctuary, the Monitor National Marine Sanctuary is managed by NOAA's Office of National Marine Sanctuaries. It is one of 13 sanctuaries and protects the wreck of the famed Civil War ironclad, USS Monitor, best known for its battle with the Confederate ironclad, CSS Virginia in Hampton Roads, Va., on March 9, 1862.

The advisory council consists of 18 members and five alternates: 12 non-governmental voting members, five governmental voting members, and one non-voting Youth Seat. The council seats represent a variety of regional interests and stakeholders, including: Citizen-at-Large, Conservation, Economic Development, Education, Heritage Tourism, Maritime Archaeological Research, North Carolina Maritime Museums, Recreational/Commercial Fishing, Recreational Diving, The Mariners' Museum, Youth, the U.S. Navy, North Carolina Department of Cultural Resources, Virginia Department of Historic Resources, the National Park Service, and the U.S. Coast Guard. It is the combined expertise and experience of these individuals that creates an advisory council that is a valuable and effective resource for the sanctuary manager.

The council's objectives are to provide the sanctuary manager with advice on: (1) Protecting natural and cultural resources, and identifying and evaluating emergent or critical issues involving sanctuary use or resources; (2) identifying and realizing the sanctuary's research objectives; (3) identifying and realizing educational opportunities to increase public knowledge and stewardship of the sanctuary environment; and (4) developing an informed constituency to increase awareness and understanding of the purpose and value of the sanctuary and the National Marine Sanctuary System.

The council may serve as a forum for consultation and deliberation among its members and as a source of advice to the sanctuary manager regarding the management of the Monitor National Marine Sanctuary. The sanctuary advisory council holds open meetings to ensure continued public input on management issues and to increase public awareness and knowledge of the sanctuary environment. Public participation at these meetings is welcomed and encouraged.

Authority: 16 U.S.C. 1431, et seq.

(Federal Domestic Assistance Catalog Number 11.429 Marine Sanctuary Program)

Dated: February 10, 2011.
Daniel J. Basta,
Director, Office of National Marine Sanctuaries, National Ocean Service, National Oceanic and Atmospheric Administration.

[FR Doc. 2011-3663 Filed 2-17-11; 8:45 am]

BILLING CODE 3510-NK-M